DEPARTMENT OF THE INTERIOR

Bureau of Reclamation

Agency Information Collection; Activities Under OMB Review; Comment Request

AGENCY: Bureau of Reclamation, Interior.

ACTION: Notice of renewal of a currently approved collection (OMB No. 1006-0029).

SUMMARY: In accordance with the Paperwork Reduction Act of 1995, the Bureau of Reclamation (Reclamation, we) has forwarded the following Information Collection Request (ICR) to the Office of Management and Budget (OMB) for review and approval: Rural Water Supply Act, OMB Control Number: 1006-0029. Title 43 CFR part 404 requires entities interested in participating in the Rural Water Supply Program (Rural Water Program) to submit information to allow Reclamation to evaluate and prioritize requests for financial or technical assistance.

DATES: OMB has up to 60 days to approve or disapprove this information collection, but may respond after 30 days; therefore, public comments must be received on or before June 29, 2009 to assure maximum consideration.

ADDRESSES: You may send written comments to the Desk Officer for the Department of the Interior at the Office of Management and Budget, Office of Information and Regulatory Affairs, via facsimile to (202) 395-5806 or e-mail to OIRA_DOCKET@omb.eop.gov. A copy of your comments should also be directed to the Bureau of Reclamation, Attention: 84-52000, PO Box 25007, Denver, CO 80225.

FOR FURTHER INFORMATION CONTACT: Avra Morgan at: (303) 445-2906.

SUPPLEMENTARY INFORMATION: Title: Reclamation Rural Water Supply Program, 43 CFR part 404.

OMB Control Number: 1006-0029.

Abstract: The purpose of the Rural Water Program is to provide assistance to small communities of 50,000 inhabitants or less, including tribes and tribal organizations, to plan the design and construction of projects to serve rural areas with industrial, municipal, and residential water. Specifically, Reclamation is authorized to provide financial and technical assistance to conduct appraisal investigations and feasibility studies for rural water supply projects. Reclamation's regulations (43 CFR part 404) establish criteria governing how the program will be implemented, including eligibility and prioritization criteria, and criteria to evaluate appraisal and feasibility studies.

Entities interested in participating in the Rural Water Program will be requested to submit information regarding proposed appraisal investigations and feasibility studies, to allow Reclamation to evaluate and prioritize requests for financial or technical assistance under the program. Reclamation will apply the program criteria to the information provided to determine whether the entity seeking assistance is eligible, whether the project is eligible for assistance, and to what extent the project meets Reclamation's prioritization criteria. Requests for assistance under the Rural Water Program will be made on a voluntary basis. There is no form associated with this information collection.

There are three different types of assistance that a project sponsor can request under the Rural Water Program, each of which requires different information to be submitted, as follows:

(1) Review of a Completed Study. To request Reclamation to review a completed appraisal investigation or feasibility study—which was not completed with assistance under the Rural Water Program, the entity making the request (the project sponsor) must submit a cover letter requesting Reclamation to commence the review. The cover letter must address the eligibility criteria set forth in §§ 404.6 and 404.7 of the regulations, and the prioritization criteria under § 404.13.

(2) Assistance to Conduct an Appraisal Investigation. To request technical or financial assistance to conduct an appraisal investigation, the project sponsor must submit a statement of interest in response to the program announcement, as explained in § 404.14. Reclamation will post a program announcement on www.grants.gov one time annually to provide notice to the public of the opportunity to request assistance under the Rural Water Program. No form is required to be filled out in order to submit a statement of interest. The statement of interest will include information regarding the eligibility of the project sponsor to participate in the program, whether the proposed project meets the program eligibility requirements, and the extent to which the proposed project meets the prioritization criteria.

(3) Assistance to Conduct a Feasibility Study. To request technical or financial assistance to conduct a feasibility study, the project sponsor must have already completed an appraisal investigation. Since a statement of interest will have already been submitted, project sponsors seeking to conduct a feasibility study may simply complete a full proposal without having to complete another statement of interest. No form is required to be filled out in order to submit a full proposal. The full proposal will be used by Reclamation to determine whether the project sponsor is eligible to participate in the program, whether the proposed project meets the program eligibility requirements, the extent to which the proposed project meets the prioritization criteria, and to evaluate the proposal in general to determine whether it is reasonable and can be successful. The content of a full proposal will be described in detail in the program announcement and will typically include a detailed scope of work for the proposed study.

Frequency: Once annually, in response to the program announcement.

Respondents: States, tribes, municipalities, water districts, and other entities created under State law with water management authority.

Estimated Annual Total Number of Potential Respondents: 185.

Estimated Number of Responses per Respondent: 1.0.

Estimated Total Number of Annual Responses: 56.0.

Estimated Total Annual Burden on Respondents: 2,100 hours.

Comments

We invite your comments on:

(a) Whether the proposed collection of information is necessary for the proper performance of our functions, including whether the information will have practical use;

(b) The accuracy of our burden estimate for the proposed collection of information;

(c) Ways to enhance the quality, usefulness, and clarity of the information to be collected; and

(d) Ways to minimize the burden of the information collection on respondents, including the use of automated collection techniques or other forms of information technology.

An agency may not conduct or sponsor, and a person is not required to respond to a collection of information unless it displays a currently valid OMB control number. A 60-day comment period soliciting comments on this collection of information was published in the Federal Register (73 FR 67778, Nov. 17, 2008) in an interim final rule. No public comments were received.

Before including your address, telephone number, e-mail address, or other personal identifying information in your comment, you should be aware that your entire comment (including your personal identifying information) may be made publicly available at any time. While you can ask us in your comment to withhold your personal identifying information from public review, we cannot guarantee that we will be able to do so.

Roseann Gonzales,
Director, Policy and Program Services, Bureau of Reclamation.

[FR Doc. E9-12525 Filed 5-28-09; 8:45 am]

BILLING CODE 4310-MN-P